DEPARTMENT OF EDUCATION

Extension of the Application Deadline Date; Applications for New Awards; Disability Innovation Fund, Pathways to Partnerships Innovative Model Demonstration Project

AGENCY: Office of Special Education and Rehabilitative Services, Department of Education.

ACTION: Notice.

SUMMARY: On April 5, 2023, the Department of Education (Department) published in the Federal Register a notice inviting applications (NIA) for Federal fiscal year 2023 Disability Innovation Fund, Pathways to Partnerships Innovative Model Demonstration Project, Assistance Listing Number 84.421E. The NIA established a deadline date of June 5, 2023, for the transmittal of applications. This notice extends the deadline date for transmittal of applications until July 7, 2023, and extends the deadline for intergovernmental review until August 6, 2023.

DATES:

Deadline for Transmittal of Applications: July 7, 2023.

Deadline for Intergovernmental Review: August 6, 2023.

FOR FURTHER INFORMATION CONTACT: Cassandra P. Shoffler, U.S. Department of Education, 400 Maryland Avenue SW, Room 5065A, Potomac Center Plaza, Washington, DC 20202-2800. Telephone: (202) 245-7827. Email: 84.421E@ed.gov.

If you are deaf, hard of hearing, or have a speech disability and wish to access telecommunications relay services, please dial 7-1-1.

SUPPLEMENTARY INFORMATION: On April 5, 2023, we published the NIA in the Federal Register (88 FR 20150). The NIA established a deadline date of June 5, 2023, for the transmittal of applications. We are extending the deadline date for transmittal of applications to allow applicants additional time to complete and submit their applications. We are also extending the intergovernmental review deadline to August 6, 2023. Please note that, under 34 CFR 79.8(a), we have shortened the standard 60-day intergovernmental review period in order to make awards by the end of FY 2023.

Applicants that have submitted applications before the original deadline date of June 5, 2023, may resubmit their applications on or before the new application deadline date of July 7, 2023, but are not required to do so. If a new application is not submitted, the Department will use the application that was submitted by the original deadline. If a new application is submitted, the Department will consider the application that was last successfully submitted and received by 11:59:59 p.m., Eastern Time, on July 7, 2023.

Note: All information in the NIA for this competition remains the same, except for the deadline for the transmittal of applications and the deadline for intergovernmental review.

Program Authority: Consolidated Appropriations Act, 2022 (Pub. L. 117-103), 136 Stat. 49.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Glenna Gallo,
Assistant Secretary for Special Education and Rehabilitative Services.

[FR Doc. 2023-10915 Filed 5-22-23; 8:45 am]

BILLING CODE 4000-01-P